FEDERAL ELECTION COMMISSION

Sunshine Act Notice

Cancellation

Date and Time: Thursday, March 4, 2010, at 2 p.m.

Place: 999 E Street, NW., Washington, DC (ninth floor).

Status: This hearing has been cancelled.

Audit Hearing: The Jefferson Committee.

* * * * *

Individuals who plan to attend and require special assistance, such as sign language interpretation or other reasonable accommodations, should contact Darlene Harris, Acting Commission Secretary, at (202) 694-1040, at least 72 hours prior to the hearing date.

Person to Contact for Information: Judith Ingram, Press Officer, Telephone: (202) 694-1220.

Signed: Darlene Harris,
Acting Secretary of the Commission.

[FR Doc. 2010-4772 Filed 3-5-10; 8:45 am]

BILLING CODE 6715-01-M